DEPARTMENT OF HOUSING AND URBAN DEVELOPMENT

[Docket No. FR-5044-N-06]

Notice of Proposed Information Collection for Public Comment, Public Housing Occupancy Data

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: June 20, 2006.

ADDRESSES: Interested persons are invited to submit comments regarding this proposal. Comments should refer to the proposal by name/or OMB Control number and should be sent to: Aneita Waites, Reports Liaison Officer, Public and Indian Housing, Department of Housing and Urban Development, 451 7th Street, SW., Room 4116, Washington, DC 20410-5000.

FOR FURTHER INFORMATION CONTACT: Aneita Waites, (202) 708-0713, extension 4114, for copies of the proposed forms and other available documents. (This is not a toll-free number.)

SUPPLEMENTARY INFORMATION: The Department will submit the proposed information collection to OMB for review, as required by the Paperwork Reduction Act of 1995 (44 U.S.C. Chapter 35, as amended). This notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: Public Housing Occupancy Data.

OMB Approval Number: 2577-0028.

Form Number: HUD-50058.

Description of the need for the information and its proposed use: Housing Agencies (HAs) are required to submit occupancy information electronically to HUD through the Form 50058 module of the Public and Indian Housing (PIH) Information Center (PIC). The information to be collected provides occupancy information to monitor units that are or will be vacant, demolished, boarded-up, under repair/modernization rehabilitation, or converted to a non-dwelling status. These unoccupied units represent a serious waste of program resources that could be averted by HUD attention and intervention. The information on the Form 50058 is verified electronically before it is accepted in the PIC system. The information is used to prepare input to reports on Presidential and Congressional needs.

Members of Effected Public: Individuals or households, State, Local, or Tribal Government.

Estimation of the total number of hours needed to prepare the information collection including number of respondents:

Frequency of Submission: Annually.

| Number of respondents | Annual responses | × | Hours per response | = | Burden hours
Reporting Burden | 3,200 | 3,200 |  | 1 |  | 3,200

Total Estimated Burden Hours: 3,200.

Status of the proposed information collection: Reinstatement, with change, of a previously approved collection.

Authority: Section 3507 of the Paperwork Reduction Act of 1995, 44 U.S.C. 35, as amended.

Dated: April 14, 2006.
Bessy Kong,
Deputy Assistant Secretary, Office of Policy, Program and Legislative Initiatives.

[FR Doc. E6-5956 Filed 4-20-06; 8:45 am]

BILLING CODE 4210-67-P